POSTAL REGULATORY COMMISSION

Sunshine Act Meetings

TIME AND DATE: September 10, 2014, at 11 a.m.

PLACE: Commission hearing room, 901 New York Avenue NW., Suite 200, Washington, DC 20268-0001.

STATUS: The Postal Regulatory Commission will hold a public meeting to discuss the agenda items outlined below. Part of the meeting will be open to the public as well as audiocast, and the audiocast may be accessed via the Commission's Web site at http://www.prc.gov. Part of the meeting will be closed. After the close of the public part of the meeting, a public listening session will be offered to allow the public to comment on any agenda item or related subject matter. The Commission will then resume in its closed session.

MATTERS TO BE CONSIDERED: The agenda for the Commission's September 10, 2014 meeting includes the items identified below.

PORTIONS OPEN TO THE PUBLIC: 1. Report from the Office of Public Affairs and Government Relations on legislative activities and the handling of rate and service inquiries from the public.

2. Report from the Office of General Counsel on the status of Commission dockets.

3. Report from the Office of Accountability and Compliance.

4. Report from the Office of the Secretary and Administration.

5. Presentation to Commissioners on the Customs and Border Protection (CBP) role in cross-border postal operations by a representative of the Department of Homeland Security.

PORTIONS CLOSED TO THE PUBLIC: 6. Discussion of pending litigation.

CONTACT PERSON FOR MORE INFORMATION: David A. Trissell, General Counsel, Postal Regulatory Commission, 901 New York Avenue NW., Suite 200, Washington, DC 20268-0001, at 202-789-6820 (for agenda-related inquiries) and Shoshana M. Grove, Secretary of the Commission, at 202-789-6800 or shoshana.grove@prc.gov (for inquiries related to meeting location, changes in date or time of the meeting, access for handicapped or disabled persons, the audiocast, or similar matters). The Commission's Web site may also provide information on changes in the date or time of the meeting.

By direction of the Commission.
Shoshana M. Grove,
Secretary.

[FR Doc. 2014-18454 Filed 7-31-14; 4:15 pm]

BILLING CODE 7710-FW-P